DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Broadband Subscription and Usage Supplement to the Census Bureau's Current Population Survey.

OMB Control Number: 0660-0021.

Form Number: None.

Type of Request: Regular submission (Reinstatement with change of a previously approved collection).

Number of Respondents: 54,000 households.

Average Time per Response: 90 seconds.

Burden Hours: 1,350.

Needs and Uses: The NTIA proposes to add eight questions to the Census Bureau (Census or Bureau) October 2010 Current Population Survey (CPS) in order to gather reliable data on broadband (also known as high-speed Internet) use by U.S. households. President Obama has established a national goal of universal, affordable broadband access for all Americans.¹ To that end, the Administration is working with Congress, the Federal Communications Commission, and other stakeholders to develop and advance economic and regulatory policies that foster broadband deployment and adoption. Current, systematic, and comprehensive data on broadband access and non-use by U.S. households is critical to allow policymakers not only to gauge progress made to date, but also to identify problem areas with a specificity that permits carefully targeted and cost effective responses.

¹ See http://www.whitehouse.gov/sites/default/files/20091217-recovery-act-investments-broadband.pdf (last viewed May 11, 2010).

Census is widely regarded as a superior collector of data based on its centuries of experience and its scientific methods. The collection of NTIA's requested broadband usage data, moreover, will occur in conjunction with Census' scheduled October 2010 CPS, thereby significantly reducing the potential burdens on the Bureau and the households surveyed. Questions on broadband and Internet usage were included in eight previous Census household surveys.

Affected Public: Individuals or households.

Frequency: One-time only.

Respondent's Obligation: Voluntary.

OMB Desk Officer: William Tucker, (202) 395-1743.

Copies of the above information collection proposal can be obtained by calling or writing Diana Hynek, Departmental Paperwork Clearance Officer, (202) 482-0266, Department of Commerce, Room 6616, 14th and Constitution Avenue, NW., Washington, DC 20230.

Written comments and recommendations for the proposed information collection should be sent within 30 days of publication of this notice to William Tucker, OMB Desk Officer, e-mail address, wtucker@omb.eop.gov, or Fax number (202) 395-5167.

Dated: July 23, 2010.
Gwellnar Banks,
Management Analyst, Office of the Chief Information Officer.

[FR Doc. 2010-18576 Filed 7-28-10; 8:45 am]

BILLING CODE 3510-60-P